FEDERAL RETIREMENT THRIFT INVESTMENT BOARD

Sunshine Act Meeting

Time and Date: 9 a.m. (EDT), August 18, 2003.

Place: 4th Floor, Conference Room, 1250 H Street, NW., Washington, DC.

Status: Parts will be open to the public and parts closed to the public.

Matters To Be Considered:

Parts Open to the Public

1. Approval of minutes of July 24, 2003, Board member meeting.

2. Thrift Savings Plan activity report by the Executive Director.

3. New system report.

4. Review of investment policy.

5. Review of Ernst & Young semiannual financial report.

Parts Closed to the Public

6. Discussion of personnel matters.

Contact Person for More Information: Thomas J. Trabucco, Director, Office of External Affairs, (202) 942-1640.

Elizabeth S. Woodruff,
Secretary to the Board, Federal Retirement Thrift Investment Board.

[FR Doc. 03-20500 Filed 8-7-03; 12:06 pm]

BILLING CODE 6760-01-M